SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OPLM.RCO@ssa.gov.

I. The information collections below are pending at SSA. SSA will submit them to OMB within 60 days from the date of this notice. To be sure we consider your comments, we must receive them no later than July 16, 2012. Individuals can obtain copies of the collection instruments by writing to the above email address.

1. Disability Report-Adult—20 CFR 404.1512 and 416.912—0960-0579. State Disability Determination Services (DDS) use the SSA-3368 and its electronic versions to determine if adult disability applicants' impairments are severe and, if so, how the impairments affect the applicants' ability to work. This determination dictates whether the DDSs and SSA will find the applicant to be disabled and entitled to Supplement Security Income (SSI) payments. The respondents are applicants for title II disability benefits or title XVI SSI payments.

Type of Request: Revision of an OMB-approved information collection.

Collection method | Number of respondents | Frequency of response | Average burden per response (minutes) | Estimated annual burden (hours)
SSA-3368 (paper) | 29,072 | 1 | 60 | 29,072
Electronic Disability Collect System (EDCS) | 2,853,426 | 1 | 60 | 2,853,426
I3368 (Internet) | 421,226 | 1 | 90 | 631,839
Totals | 3,303,724 |  |  | 3,514,337

2. Social Security Number Verification Services—20 CFR 401.45—0960-0660. Internal Revenue Service regulations require employers to provide wage and tax data to SSA using Form W-2 or its electronic equivalent. As part of this process, the employer must furnish the employee's name and Social Security number (SSN). In addition, the employee's name and SSN must match SSA's records for SSA to post earnings to the employee's earnings record, which SSA maintains. SSA offers the Social Security Number Verification Service (SSNVS), which allows employers to verify the reported names and SSNs of their employees match those in SSA's records. SSNVS is a cost-free method for employers to verify employee information either through the Internet or via telephone. The respondents are employers who need to verify SSN data using SSA's records.

Type of Request: Revision of an OMB-approved information collection.

Collection method | Number of respondents | Frequency of response | Number of responses | Average burden per response (minutes) | Estimated total annual burden (hours)
SSNVS | 200,000 | 60 | (12,000,000) | 5 | 1,000,000
SSNVS Telephone | 50,000 | 2 | (100,000) | 10 | 16,667
Totals | 250,000 |  | (12,100,000) |  | 1,016,667

3. Electronic Records Express (Third Parties)—20 CFR 404.1700-404.1715—0960-0767. Electronic Records Express (ERE) is an online system that enables medical providers and various third-party representatives to download and submit disability claimant information electronically to SSA as part of the disability application process. To ensure only authorized people access ERE, SSA requires third parties to complete a unique registration process if they wish to use this system. This Information Collection Request (ICRSs) includes the third-party registration process; the burden for submitting evidence to SSA is part of other, various ICRs. The respondents are third-party representatives of disability applicants or recipients who want to use ERE to electronically access clients' disability files online and submit information to SSA.

Type of Request: Revision of an OMB-approved information collection.

Collection method | Number of respondents | Frequency of response | Number of responses | Average burden per response (minutes) | Estimated total annual burden (hours)
ERE | 9,000 | 283 | 2,547,000 | 1 | 42,450

II. SSA submitted the information collections below to OMB for clearance. Your comments regarding the information collections would be most useful if OMB and SSA receive them within 30 days from the date of this publication. To be sure we consider your comments, we must receive them no later than June 18, 2012. Individuals can obtain copies of the OMB clearance packages by writing to OPLM.RCO@ssa.gov.

1. Request for Withdrawal of Application—20 CFR 404.640—0960-0015. Form SSA-521 documents the information SSA needs to process the withdrawal of an application for benefits. A paper SSA-521 is the preferred instrument for executing a withdrawal request; however, any written request for withdrawal signed by the claimant or a proper applicant on the claimant's behalf will suffice. Individuals who wish to withdraw their applications for benefits complete Form SSA-521, or sign the completed form for each request to withdraw. SSA uses the information from Form SSA-521 to process the request for withdrawal. The respondents are applicants for Retirement, Survivors, Disability, and Health Insurance benefits.

Type of Request: Revision of an OMB-approved information collection.

Collection method | Number of respondents | Frequency of response | Average burden per response (minutes) | Estimated annual burden (hours)
SSA-521 | 39,000 | 1 | 5 | 3,250

2. Testimony by Employees and the Production of Records and Information in Legal Proceedings—20 CFR 403.100-403.155—0960-0619. Regulations at 20 CFR 403.100-403.155 of the Code of Federal Regulations establish SSA's policies and procedures for an individual, organization, or government entity to request official agency information, records, or testimony of an agency employee in a legal proceeding where the agency is not a party. The request, which respondents submit in writing to the Commissioner, must (1) fully set out the nature and relevance of the sought testimony; (2) explain why the information is not available by other means; (3) explain why it is in SSA's interest to provide the testimony; and (4) provide the date, time, and place for the testimony. Respondents are individuals or entities who request testimony from SSA employees in connection with a legal proceeding.

Type of Request: Extension of an OMB-approved information collection.

Collection method | Number of respondents | Frequency of response | Average burden per response (minutes) | Estimated annual burden (hours)
20 CFR 403.100-403.155 | 100 | 1 | 60 | 100

Dated: May 11, 2012.
Faye Lipsky,
Reports Clearance Director, Office of Regulations and Reports Clearance, Social Security Administration.

[FR Doc. 2012-11917 Filed 5-16-12; 8:45 am]

BILLING CODE 4191-02-P